DEPARTMENT OF LABOR

Employment and Training Administration

[TA-W-58,838]

Isabel Bloom LLC, Davenport, IA; Notice of Termination of Investigation

Pursuant to section 221 of the Trade Act of 1974, as amended, an investigation was initiated on February 13, 2006 in response to a petition filed by a company official on behalf of workers at Isabel Bloom LLC, Davenport, Iowa.

The petitioner has requested that the petition be withdrawn. Consequently, the investigation has been terminated.

Signed at Washington, DC, this 16th day of February, 2006.
Richard Church,
Certifying Officer, Division of Trade Adjustment Assistance.

[FR Doc. E6-2969 Filed 3-1-06; 8:45 am]

BILLING CODE 4510-30-P